DEPARTMENT OF ENERGY

Federal Energy Regulatory Commission

[Docket No. RP00-355-001]

Trailblazer Pipeline Company; Notice of Compliance Filing

August 3, 2000.

Take notice that on July 31, 2000, Trailblazer Pipeline Company (Trailblazer) tendered for filing to be a part of its FERC Gas Tariff, Third Revised Volume No. 1 (Tariff), certain tariff sheets to be effective March 27, 2000.

Trailblazer states that these tariff sheets were filed in compliance with the Commission's letter order issued July 14, 2000.

Trailblazer states that copies of the filing have been mailed to its customers, interested state commissions and all parties set out on the Commission's official service list in Docket No. RP00-355.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-20067 Filed 8-8-00; 8:45 am]

BILLING CODE 6717-01-M